DEPARTMENT OF THE INTERIOR

National Park Service

Notice of Intent to Repatriate Cultural Items in the Possession of the Maxwell Museum of Anthropology, University of New Mexico, Albuquerque, NM

AGENCY: National Park Service, Interior.

ACTION: Notice.

Notice is hereby given in accordance with the Native American Graves Protection and Repatriation Act (NAGPRA), 43 CFR 10.10 (a)(3), of the intent to repatriate cultural items in the possession of the Maxwell Museum of Anthropology, University of New Mexico, Albuquerque, NM, that meet the definition of “sacred objects” and “objects of cultural patrimony”under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The 11 objects are 2 Katsina mask nosepieces, a Katsina mask horn piece, a mask fragment, a textile belt, a basket bowl (Paho-inpi), a ceramic bowl, a kickstone, and 3 prayer sticks.

In 1967, the two Katsina mask nosepieces (catalogue numbers 67.47.2 and 67.47.3), the Katsina mask horn piece (67.47.4), the kickstone (67.47.5), and a prayer stick (67.47.10) were donated by Florence Ellis to the Maxwell Museum of Anthropology. Museum records indicate that the cultural items were found buried in an abandoned house in Walpi, NM, in 1966 by a Hopi man who subsequently gave or sold them to Mary Ewing, who then sold them to Florence Ellis. During consultation with the Hopi Tribe of Arizona, on behalf of the Society Priests, information was provided that identifies these cultural items as sacred and substantiates the claim that they are needed by traditional religious leaders, and that they are of such central importance to the tribe that they could not have been alienated by an individual.

In 1969, two prayer sticks consisting of a wood branch with feathers and string attached (catalogue numbers 69.66.28 and 69.66.29) were donated by Florence Ellis to the Maxwell Museum of Anthropology. Museum records indicate that these two cultural items were found on Hopi land. During consultation with the Hopi Tribe of Arizona, on behalf of the Society Priests, information was provided that identifies these cultural items as sacred and substantiates the claim that they are needed by traditional religious leaders, and that they are of such central importance to the tribe that they could not have been alienated by an individual.

In 1970, a shallow ceramic bowl with black on orange design (catalogue number 70.39.17) was donated by Florence Ellis to the Maxwell Museum of Anthropology. Museum records indicate that the bowl was taken from Second Mesa, Hopi. During consultation with the Hopi Tribe of Arizona, on behalf of the Society Priests, information was provided that identifies this cultural item as sacred and substantiates the claim that it is needed by traditional religious leaders, and that it is of such central importance to the tribe that it could not have been alienated by an individual.

In 1978, a coiled basket prayer feather bowl (Paho-inpi) (catalogue number 78.43.1) was donated by Helene Warren to the Maxwell Museum of Anthropology. Museum records indicate that the basket was found in a cave on Hopi land. During consultation with the Hopi Tribe of Arizona, on behalf of the Society Priests, information was provided that identifies this cultural item as sacred and substantiates the claim that it is needed by traditional religious leaders, and that it is of such central importance to the tribe that it could not have been alienated by an individual.

In 1955, the upper part of a mask made of painted wool, felt, and hide was donated by B.M. Dutton to the Maxwell Museum of Anthropology. Museum records indicate that the mask part was collected by Mr. R. Plummer in the 1880s from Hopi land. During consultation with the Hopi Tribe of Arizona, on behalf of the Society Priests, information was provided that identifies this cultural item as sacred and substantiates the claim that it is needed by traditional religious leaders, and that it is of such central importance to the tribe that it could not have been alienated by an individual.

In 1979, a painted canvas belt was donated by Mark Hooper to the Maxwell Museum of Anthropology. Museum records indicate that the belt came from Hopi land and that it is used in the snake dance. During consultation with the Hopi Tribe of Arizona, on behalf of the Society Priests, information was provided that identifies this cultural item as sacred and substantiates the claim that it is needed by traditional religious leaders, and that it is of such central importance to the tribe that it could not have been alienated by an individual.

Based on the above-mentioned information, officials of the Maxwell Museum of Anthropology, University of New Mexico have determined that, pursuant to 43 CFR 10.2 (d)(3), these 11 cultural items are specific ceremonial objects needed by traditional Native American religious leaders for the practice of traditional Native American religions by their present-day adherents. Officials of the Maxwell Museum of Anthropology, University of New Mexico also have determined that, pursuant to 43 CFR 10.2 (d)(4), these 11 cultural items have ongoing historical, traditional, and cultural importance central to the tribe itself, and could not have been alienated, appropriated, or conveyed by any individual. Lastly, officials of the Maxwell Museum of Anthropology, University of New Mexico have determined that, pursuant to 43 CFR 10.2 (e), there is a relationship of shared group identity that can be reasonably traced between these sacred objects and objects of cultural patrimony and the Hopi Tribe of Arizona.

This notice has been sent to officials of the Hopi Tribe of Arizona and the Hopi Cultural Preservation Office. Representatives of any other Indian tribe that believes itself to be culturally affiliated with these sacred objects and objects of cultural patrimony should contact Kathryn Klein, Curator of Ethnology, Maxwell Museum of Anthropology, University of New Mexico, Albuquerque, NM 87131-1201, telephone (505) 277-1936, before August 8, 2002. Repatriation of these sacred objects and objects of cultural patrimony to the Hopi Tribe of Arizona may begin after that date if no additional claimants come forward.

Dated: May 28, 2002.
Robert Stearns,
Manager, National NAGPRA Program.

[FR Doc. 02-17083 Filed 7-8-02; 8:45 am]

BILLING CODE 4310-70-S